CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the Community Stakeholder Assessment of Senior Corps RSVP Grantees to the Office of Management and Budget (OMB) for review and approval in accordance with the Paperwork Reduction Act of 1995, Public Law 104-13, (44 U.S.C. Chapter 35). Copies of this ICR, with applicable supporting documentation, may be obtained by calling the Corporation for National and Community Service, Katharine Delo Gregg at (202) 606-6965. Individuals who use a telecommunications device for the deaf (TTY-TDD) may call (202) 606-3472 between 8:30 a.m. and 5 p.m. eastern time, Monday through Friday.

ADDRESSES: Comments may be submitted, identified by the title of the information collection activity, to the Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on January 12, 2010. This comment period ended March 15, 2010. A total of 12 commenters submitted 33 comments.

Comment 1. The Corporation is urged to take a step back and consider other ways in which “true stakeholder support” can be obtained.

Response—Corporation disagrees and believes that the proposed collection is at least one valid method assessing stakeholder support.

Comment 2. The federal registry explains the purpose of the survey is to help provide TTA to existing projects. The purpose statement on the survey does not talk about TTA.

Response—Instrument instructions will be edited per comment.

Comment 3. Two commenters suggested that the language needs to be simplified.

Response—Instrument instructions and questions edited per comment.

Comment 4. The tool asks assessments that I believe may be well beyond the reach of our stakeholders to properly assess.

Response—The instructions for the instrument have been edited to clarify why the intended recipients should be able to adequately respond.

Comment 5. The burden of administrative demand far exceeds any perceived benefit from my perspective.

Response The instructions for the instrument have been edited to clarify that the benefit of the survey depends on its use by the grantee.

Comment 6. Speaking more generally, this assessment should reflect how successfully respondents feel their respective RSVP's are doing to fulfill their missions and provide volunteers and services that have a meaningful and significant impact on the needs of the communities they operate in.

Response—Instrument instructions and questions edited per comment.

Comment 7. Questions should better address the processes and guidelines applied to RSVP projects.

Response—Instrument instructions and questions edited per comment.

Comment 8. Three commenters suggested that there should be fewer questions about how projects are perceived by the community and a few more about the operations of the project.

Response—The instructions for the instrument have been edited to clarify that the purpose of the instrument is to measure community impact of RSVP grantees.

Comment 9. Three commenters suggested that there are some similarities of the current questions.

Response—Instrument instructions and questions edited per comment.

Comment 10. I would also like to have the issue of a project that does not have a formal advisory council addressed.

Response—Instrument instructions have been edited per comment.

Comment 11. Advisory Council members should answer the questions only with a “yes” or “no.”

Response—Several of the instrument questions were simplified as suggested.

Comment 12. Not all methodology and assumptions are valid.

Response—We have reviewed the methodology and assumptions as you suggest to ensure accuracy.

Comment 13. In order to enhance the quality, utility, and clarity of the information collected, certain terms used in the questions should be better defined.

Response—We clarified general terms as defined by Senior Corps. We cannot enhance the definition of most terms used beyond what is stated in the tool as they will be interpreted from each respondent's perspective and that is okay for this assessment.

Comment 14. To minimize the burden of the collection of information tool should be shortened; be user friendly; and be filled out by project director not Advisory Council.

Response—We have adjusted the length of the instrument and have expanded deployment via electronic survey and email attachment. The purpose tool is to assess how the project is interacting with its community partners and impacting the community from the community partners' perspective so it is not appropriate for the project director to fill out the survey.

Comment 15. Two commenters suggested that an Assessment Tool is not needed for the performance of the projects that already have a high rating, but only for those that are weak or satisfactory.

Response—Corporation disagrees because an assessment of all programs is needed to properly evaluate RSVP.

Comment 16. We believe that one way to enhance the quality of information to be collected is to ask questions that require community partners to provide the Corporation with information it currently lacks.

Response—The instructions for the instrument have been edited to clarify that the purpose of the instrument is to measure community impact of RSVP grantees and to clarify that the benefit of the survey depends on its use by the grantee not the Corporation for National and Community Service.

Comment 17. The assessment misses the substance of what RSVP is all about.

Response—A team of RSVP projects have been consulted and the instructions for the instrument have been edited to clarify that the purpose of the instrument is to measure community impact of RSVP grantees.

Comment 18. One way to minimize the burden of information collection on all concerned is to collect it only once.

Response—We concur.

Comment 19. Assume that community partners who are disappointed in their experience with RSVP “will walk with their feet” and that those community partners who remain affiliated with RSVP are, by definition, satisfied and not have to fill out the assessment.

Response—The instructions for the instrument have been edited to clarify that the purpose of the instrument is to measure community impact of RSVP grantees.

Comment 20. To minimize the burden of collecting this information would be to design a survey instrument that would sample the universe rather than distribute it to the Community Advisory Councils.

Response—The instrument is required to be completed by all grantees.

Comment 21. Concerned with the level of knowledge that advisory council members would need to complete this assessment.

Response—Program regulations require that grantee advisory councils be knowledgeable in the areas covered by the instrument.

Comment 22. For continuity, it would also be helpful if the format was a response to a statement versus a response to a question—there's a mix in this document.

Response—In order to procure the most useful responses the tool best lends itself to a variety of query and response formats.

Comment 23. The [respondents] will be partial to their RSVP program and answer the question to support their program and the RSVP Director needs to help explain and give advice to the [respondents] to be able to answer the questions.

Response—The instructions for the instrument have been edited to clarify that the benefit of the survey depends on its use by the grantee. Program regulations require that grantee advisory councils be knowledgeable in the areas covered by the instrument.

Description

The Corporation is seeking approval of Community Stakeholder Assessment of Senior Corps RSVP Grantees. The information collection is intended to be completed by the Community Participation Groups of current RSVP grantees. The information collection will be used to collect data to assist grantees in self-improvement and to enhance technical assistance for current grantees. The Corporation will not use the results of this information collection for decision-making purposes regarding grant awards.

Type of Review: New.

Agency: Corporation for National and Community Service.

Title: Community Stakeholder Assessment of Senior Corps RSVP Grantees.

OMB Number: None.

Agency Number: None.

Affected Public: Community Participation Groups of current recipients of Senior Corps RSVP Grants.

Total Respondents: 700.

Frequency: Annual.

Average Time per Response: 2.5 hours.

Estimated Total Burden Hours: 1750 hours.

Total Burden Cost (capital/startup): None.

Total Burden Cost (operating/maintenance): None.

Dated: April 14, 2010.
Angela Roberts,
Acting Director, Senior Corps.

[FR Doc. 2010-9059 Filed 4-19-10; 8:45 am]

BILLING CODE 6050-$$-P